DEPARTMENT OF THE INTERIOR

National Park Service

Record of Decision; Apostle Islands National Lakeshore, WI

AGENCY: Department of the Interior, National Park Service.

ACTION: Notice of availability for the Record of Decision on the Final General Management Plan/Wilderness Management Plan/Final Environmental Impact Statement, Apostle Islands National Lakeshore, Wisconsin.

SUMMARY: Pursuant to Section 102(2)(C) of the National Environmental Policy Act of 1969, 42 U.S.C. 4332(2)(C), the National Park Service (NPS) announces the availability of the Record of Decision (ROD) for the Final Environmental Impact Statement (EIS) for the General Management Plan (GMP)/Wilderness Management Plan for Apostle Islands National Lakeshore, Wisconsin. On June 24, 2011, the Regional Director for the NPS Midwest Region approved the ROD for the Final GMP/EIS. As soon as practicable, the NPS will begin to implement the selected alternative.

ADDRESSES: The ROD will be available for public inspection via the Internet through the NPS Planning, Environment, and Public Comment Web site at http://parkplanning.nps.gov/apis, or by writing to Ms. Julie Van Stappen, Chief of Planning and Resource Management, Apostle Islands National Lakeshore, 415 Washington Avenue, Bayfield, Wisconsin 54814; telephone: 715-779-3398, extension 211. Copies also can be picked-up in person at the park's headquarters at 415 Washington Avenue, Bayfield, Wisconsin.

SUPPLEMENTARY INFORMATION: Under the selected alternative the park's current management direction will continue with some minor changes to increase the opportunities for more people to have an island experience. Preservation of natural and cultural resources will remain a top priority. The current mix of recreational activities will stay the same and the visitor experience in most of the park will stay largely as it is. Management of the wilderness area will continue largely the way it is now. The Raspberry Island light station will continue to be the focal point for cultural resource interpretation and its cultural landscape will be rehabilitated consistent with plans developed but never implemented prior to the light station restoration. Wilderness management will remain consistent with current direction, with no net change in campsite numbers or trail miles, with the exception of the Oak Island group campsite which will be relocated outside of wilderness, and the original site restored. The NPS will continue to have visitor centers at Bayfield, Little Sand Bay, Stockton Island, and the Northern Great Lakes Visitor Center. The NPS will continue to be a leader in sustainable practices at Apostle Islands National Lakeshore.

Key Changes in the Selected Action Include

• Two or more light stations will be restored or rehabilitated, similar to the Raspberry Island light station, and the rest will continue to be preserved at current levels.

• If feasible, part of the Long Island light station will be rehabilitated for park staff housing to better protect and interpret the resources of Long Island.

• If life estates on Sand or Rocky Island naturally expire within the life of this plan, historically significant structures will be preserved and interpreted.

• If feasible, additional transportation opportunities will be sought to encourage visitors to come to some of the inner islands, such as Basswood or Sand islands; some additional visitor facilities will be developed on these islands, including day use areas, new trails, and campsites.

• Most of the Stockton Island campground will be relocated to Presque Isle; however, a few campsites will be maintained on the north end of the current campground.

• There will be no change in the number of public docks in the park, but some docks will be relocated, improved, or expanded.

• The Bayfield visitor center will be relocated to a new location closer to the water to improve contact with visitors and to be co-located, if possible, with the park's primary maintenance and an operations center; the park headquarters will remain in the old Bayfield County Courthouse.

• The Little Sand Bay Visitor Center, currently in poor condition and not cost-effective to renovate, will be replaced with a smaller, more sustainable structure that offers the same level of visitor services as today and honors the site's rich history. The restored fishing boat “Twilite” will be a featured exhibit.

• A new ranger station and accessible beach ramp will be developed at Meyers Beach.

The ROD includes a statement of the decision made, synopses of other alternatives considered, the basis for the decision, the rationale for why the selected action is the environmentally preferable alternative, a finding of no impairment of park resources and values, and an overview of public involvement in the decision-making process.

FOR FURTHER INFORMATION CONTACT: Ms. Julie Van Stappen, Chief of Planning and Resource Management, Apostle Islands National Lakeshore, 415 Washington Avenue, Bayfield, Wisconsin 54814, or by calling 715-779-3198, extension 211.

Dated: June 27, 2011.
Michael T. Reynolds,
Regional Director, Midwest Region.

[FR Doc. 2011-24555 Filed 9-22-11; 8:45 am]

BILLING CODE 4312-97-P